DEPARTMENT OF TRANSPORTATION

Federal Railroad Administration

Petition for Waiver of Compliance

In accordance with part 211 of Title 49 Code of Federal Regulations (CFR), notice is hereby given that the Federal Railroad Administration (FRA) has received a request for a waiver of compliance with certain requirements of its safety standards. The individual petition is described below, including the party seeking relief, the regulatory provisions involved, the nature of the relief being requested, and the petitioner's arguments in favor of relief.

The Valley Railroad Company

[Waiver Petition Docket Number FRA-2004-19259]

The Valley Railroad Company (VALE) of Essex, Connecticut, operator of a scenic railroad on leased track, seeks waivers from certain provisions of 49 CFR part 231, 49 CFR part 223, and 49 CFR part 229 for an 80-ton diesel-electric locomotive built by General Electric in 1937 and currently numbered VALE 0901.

The specific sections from which relief is requested and the justifications for such relief are as follows: (1) Switching steps of the type required by 49 CFR part 231.30(a)-(f) are not permitted by the frame construction of the locomotive. Instead, it is equipped with four side ladders which give access to the walkways near each corner of the locomotive. (2) Glazing in the locomotive is not compliant with 49 CFR part 223.11; however, the current glazing is automotive style safety glass, and VALE reports they operate in a rural area and have had few incidents of rocks being thrown at their trains, and no incidents of rocks being thrown at a locomotive. (3) The locomotive has never been equipped with a “slip/slide alarm” as required by 49 CFR part 229.115; however, VALE reports that it will be operating at speeds less than 20 mph and with trains weighing less than 500 tons. (4) This locomotive is equipped with a single headlamp on each end which does not meet the requirements of 49 CFR part 229.125(a) for road locomotives, but which does meet the requirements for locomotives used in switching service given in 49 CFR part 229.125(b). Again, VALE states that this is sufficient due to the speed limit of 20 miles per hour.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2004-19259) and must be submitted to the Docket Clerk, DOT Docket Management Facility, Room PL-401 (Plaza Level), 400 7th Street, SW., Washington, DC 20590. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The statement may also be found at http://dms.dot.gov.

Issued in Washington, DC on November 5, 2004.
Grady C. Cothen, Jr.,
Acting Associate Administrator for Safety.

[FR Doc. 04-25561 Filed 11-17-04; 8:45 am]

BILLING CODE 4910-06-P